DEPARTMENT OF TRANSPORTATION

Office of the Secretary

Notice of Applications for Certificates of Public Convenience and Necessity and Foreign Air Carrier Permits Filed Under Subpart B (Formerly Subpart Q) During the Week Ending October 4, 2002

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-1997-2946.

Date Filed: October 1, 2002.

Due Date for Answers, Conforming Applications, or Motion to Modify Scope: October 22, 2002.

Description: Application of Delta Air Lines, Inc., pursuant to 49 U.S.C. Sections 41102 and 41108, and Subpart B, requesting renewal of its certificate authority to engage in scheduled foreign air transportation of persons, property, and mail between New York and Boston, on the one hand, and Nairobi, Kenya, on the other hand.

Docket Number: OST-2002-13495.

Date Filed: October 2, 2002.

Due Date for Answers, Conforming Applications, or Motion to Modify Scope: October 23, 2002.

Description: Application of BBJ Charter, Inc., pursuant to 49 U.S.C. Section 41102 and Subpart B, requesting a certificate of public convenience and necessity to engage in foreign air transportation of persons, property, and mail on a world wide basis.

Docket Number: OST-2002-13496.

Date Filed: October 2, 2002.

Due Date for Answers, Conforming Applications, or Motion to Modify Scope: October 23, 2002.

Description: Application of BBJ Charters, Inc., pursuant to 49 U.S.C. Section 41102, and Subpart B, requesting a certificate of public convenience and necessity to engage in interstate charter air transportation of persons, property, and mail.

Dorothy Y. Beard,
Federal Register Liaison.

[FR Doc. 02-26125 Filed 10-11-02; 8:45 am]

BILLING CODE 4910-62-P